DEPARTMENT OF ENERGY

Federal Energy Regulatory Commission

[Docket Nos. CP15-554-000; CP15-554-001; Docket No. CP15-555-000]

Atlantic Coast Pipeline, LLC; Dominion Transmission, Inc.; Notice of Revised Schedule for Environmental Review of the Atlantic Coast Pipeline and Supply Header Project

This notice identifies the Federal Energy Regulatory Commission staff's revised schedule for the completion of the environmental impact statement (EIS) for Atlantic Coast Pipeline, LLC's (Atlantic) Atlantic Coast Pipeline and Dominion Transmission, Inc.'s (DTI) Supply Header Project. The first notice of schedule, issued on August 12, 2016, identified a final EIS date of June 30, 2017. However, in response to comments on the draft EIS (which had a comment closing date of April 6, 2017), staff sent an environmental information request to Atlantic and DTI in April 2017, and only recently received the information necessary for us to complete our environmental review. As a result, staff has revised the schedule for issuance of the final EIS.

Schedule for Environmental Review

Issuance of Notice of Availability of the final EIS—July 21, 2017.

90-day Federal Authorization Decision Deadline—October 19, 2017.

If a schedule change becomes necessary, an additional notice will be provided so that the relevant agencies are kept informed of the project's progress.

Additional Information

In order to receive notification of the issuance of the final EIS and to keep track of all formal issuances and submittals in specific dockets, the Commission offers a free service called eSubscription (http://www.ferc.gov/docs-filing/esubscription.asp).

Dated: May 12, 2017.
Kimberly D. Bose,
Secretary.

[FR Doc. 2017-10122 Filed 5-18-17; 8:45 am]

BILLING CODE 6717-01-P